DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than March 1, 2002.

ADDRESSES: Submit written comments on any or all of the following proposed activities by mail to either: Mr. Robert Brogan, Office of Safety, Planning and Evaluation Division, RRS-21, Federal Railroad Administration, 1120 Vermont Ave., NW., Mail Stop 17, Washington, DC 20590, or Ms. Dian Deal, Office of Information Technology and Productivity Improvement, RAD-20, Federal Railroad Administration, 1120 Vermont Ave., NW., Mail Stop 35, Washington, DC 20590. Commenters requesting FRA to acknowledge receipt of their respective comments must include a self-addressed stamped postcard stating, “Comments on OMB control number 2130-0544. Alternatively, comments may be transmitted via facsimile to (202) 493-6265 or (202) 493-6170, or E-mail to Mr. Brogan at robert.brogan@fra.dot.gov, or to Ms. Deal at dian.deal@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Dian Deal, Office of Information Technology and Productivity Improvement, RAD-20, Federal Railroad Administration, 1120 Vermont Ave., NW., Mail Stop 35, Washington, DC 20590 (telephone: (202) 493-6133). (These telephone numbers are not toll-free.)

SUPPLEMENTARY INFORMATION: The Paperwork Reduction Act of 1995 (PRA), Pub. L. No. 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) reduce reporting burdens; (ii) ensure that it organizes information collection requirements in a “user friendly” format to improve the use of such information; and (iii) accurately assess the resources expended to retrieve and produce information requested. See 44 U.S.C. 3501.

Below are brief summaries of three currently approved information collection activities that FRA will submit for clearance by OMB as required under the PRA:

Title: Passenger Equipment Safety Standards.

OMB Control Number: 2130-0544.

Abstract: The information gained from daily inspections is used to detect and correct equipment problems so as to prevent collisions, derailments, and other occurrences involving railroad passenger equipment that cause injury or death to railroad employees, railroad passengers, or the general public; and to mitigate the consequences of any such occurrences, to the extent they can not be prevented. The information provided promotes passenger train safety by ensuring requirements are met for railroad passenger equipment design and performance; fire safety; emergency systems; the inspection, testing, and maintenance of passenger equipment; and other provisions for the safe operation of railroad passenger equipment.

Affected Public: Railroads.

Respondent Universe: 685 railroads.

Frequency of Submission: On occasion; annually, recordkeeping.

Reporting Burden:

CFR section | Respondent universe | Total annual responses | Average time per response | Total annual burden hours | Total annual burden cost
216.14—Special Notice for Repairs | 14 Railroads | 9 Forms | 5 minutes | 1 | $34
238.1—Scope | 14Railroads | 11 Notifications | 45 minutes | 8 | 272
238.7—Waivers | 14 Railroads | 9 Waivers | 2 hours/25 hours | 64 | 2,176
238.11—Penalties | 14 Railroads | 1 False Report | 15 minutes | 25 | 8
238.15—Pass Equip.—Detective en route | 14 Railroads | 1,000 Tags/cards | 3 minutes | 50 | 2,250
—Auto Tracking Sys | 14 Railroads | 288 Tags/cards | 3 minutes | 14 | 630
—Conditional Reqmnt | 14 Railroads | 144 Notifications | 3 minutes | 7 | 315
238.17—Usual Limitations Pass Equip—Defects | 14 Railroads | 200 Tags/cards | 3 minutes | 10 | 300
—Safety App Defects | 14 Railroads | 76 Tags/cards | 3 minutes | 4 | 120
Notifications | 14 Railroads | 38 Notifications | 30 seconds | .32 | 10
238.19—List of Brake Repair Points | 14 Railroads | 1 List | 2 hours | 2 | 68
—Subsequent Yrs | 14 Railroads | 1 Update | 1 hour | 1 | 34
238.21—Spec. Approval Proced | 14 Railroads | 1 Petition | 16 hours | 16 | 544
—Alt. Compliance | 14 Railroads | 1 Petition | 120 hours | 120 | 4,080
—Service Test Plan | 14 Railroads | 2 Plans | 40 hours | 80 | 2,720
—Comments | 14 Railroads | 8 Comments | 1 hour | 8 | 440
238.103—Fire Saf | 14 Railroads | 4 Equip Designs | 540 hours | 2,160 | 110,400
—Subsequent Orders | 14 Railroads | 4 Equip Designs | 60 hours | 240 | 24,000
238.107—Insp. Test & Main Plan | 14 Railroads | 14 Reviews | 60 hours | 840 | 28,560
238.109—Employee Training | 14 Railroads | 3,900 Employees | 2 hours | 7,800 | 232,500
—Recordkeeping | 14 Railroads | 2,500 Records | 3 minutes | 125 | 4,250
238.111—Pre-Rev. Service Test Plan | 10 Equip Man. | 4 Plans | 16 hours | 64 | 4,288
—Pre-Rev. Service Test Plan | 10 Equip Man | 4 Plans | 200 hours | 800 | 69,440
Subsequent Orders | 10 Equip Plan | 4 Plans | 60 hours | 240 | 18,720
238.203—Static End Strength | 14 Railroads | 1 Petition | 100 hours | 100 | 5,500
—Comments | 14 Railroads | 6 Comments | 20 hours | 120 | 6,600
238.237—Auto Monitoring | 14 Railroads | 14 Documents | 2 hours | 28 | 952
—Tags | 14 Railroads | 100 Tags | 3 minutes | 5 | 225
238.303—MU Locos Inop. Brakes | 14 Railroads | 50 Tags/cards | 3 minutes | 3 | 135
—Conv. Locomotive | 14 Railroads | 50 Tags/cards | 3 minutes | 3 | 135
—Written Notices | 14 Railroads | 25 Written Notices | 3 minutes | 1 | 34
—Records | 14 Railroads | 2,017,756 Records | 1 minute | 33,629 | 1,143,386
238.305—Int. Calendar Day Insp | 14 Railroads | 480 Tags | 1 minute | 8 | 288
—Records | 14 Railroads | 1,866,904 Records | 1 minute | 31,115 | 1,057,910
238.307—Periodic Mech Insp.—p/cars | 14 Railroads | 5 Notifications | 3 hours | 25 | 850
—Records | 14 Railroads | 56,462 Records | 2 minutes | 941 | 63,988
—Detailed Docs | 14 Railroads | 5 Documents | 100 hours | 500 | 17,000
238.311—Single Car Test | 14 Railroads | 25 Tags | 3 minutes | 1 | 36
238.315—Class IA—Brake Pressure | 14 Railroads | 365,000 Communications | 3 seconds | 304 | 0
—Comm Signal Sys | 14 Railroads | 365,000 Tests | 15 seconds | 1,521 | 0
238.317—Class II Brake Test | 14 Railroads | 365,000 Communications | 3 seconds | 304 | 0
—Signal Sys | 14 Railroads | 365,000 Tests | 15 seconds | 1,521 | 50
238.431—Brake System | 14 Railroads | 1 Analysis | 40 hours | 40 | 1,360
238.437—Emerg Communication | 3 Car Manuf | 3 instr. Sets/2250 decals | 25 hours/10 min | 117 | 3,810
238.441—Emerg. Roof Entrance Loc | 3 Car Manuf | 3 instr. Sets/250 placards | 25 hours/1 hour | 325 | 10,050
238.445—Auto. Monitoring | 1 Railroad | 10,000 Alerts | 10 seconds | 28 | 0
—Self-Test Feature | 1 Railroad | 21,900 Notification | 20 seconds | 122 | 0

Total Responses: 5,442,514.

Estimated Total Annual Burden: 83,417 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Kathy A. Weiner,
Director, Office of Information Technology and Support Systems,Federal Railroad Administration.

[FR Doc. 01-32018 Filed 12-28-01; 8:45 am]

BILLING CODE 4910-06-P